DEPARTMENT OF JUSTICE

Notice of Lodging of Consent Decree Under the Oil Pollution Act and the Clean Water Act

Notice is hereby given that on March 24, 2005, a proposed Consent Decree in United States, et al. v. Marathon Oil Company, et al., Civil Action No. 2:05-CV-0090-LIM-WGH, was lodged with the United States District Court for the Southern District of Indiana. This Consent Decree represents a settlement of claims brought by the United States and the State of Indiana against Marathon Oil Company and Marathon Ashland Pipe Line LLC (“Settling Defendants”) in the above referenced action under Sections 1002 and 1006 of the Oil Pollution Act, 33 U.S.C. 2702 and 2706, and Section 311 of the Clean Water Act, 33 U.S.C. 1321, for natural resource damages relating to discharges of oil from pipelines owned or operated by Settling Defendants in and around Rosedale, Catlin, and Daylight, Indiana.

Under the proposed Consent Decree, the Settling Defendants would convey 56.54 acres of riparian flood plain habitat to the Indiana Department of Natural Resources for replacement or acquisition of the equivalent of injured natural resources. In addition, the Settling Defendants would pay the United States and the State of Indiana $24,220.10 for costs incurred in assessing the damages to natural resources resulting from the discharges of oil, and $5,779.90 to be used for future restoration of the 56.64 acre property.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. Marathon Oil Company, et al. (S.D. Ind.), D.J. Ref. 90-5-1-1-4150/1.

The Consent Decree may be examined at the Office of the United States Attorney, 10 West Market Street, Suite 2100, Indianapolis, IN 46204-3048, and at the U.S. Department of the Interior, Three Parkway Center, Room 385, Pittsburgh, PA 15220. During the public comment period, the Consent Decree also may be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury.

William D. Brighton,
Assistant Chief, Environmental Enforcement Section, Environment and Natural Resources Division.

[FR Doc. 05-6845 Filed 4-5-05; 8:45 am]

BILLING CODE 4410-15-M